DEPARTMENT OF TRANSPORTATION

Federal Aviation Administration

14 CFR Part 39

[Docket No. FAA-2023-0666; Project Identifier MCAI-2022-00555-Q]

RIN 2120-AA64

Airworthiness Directives; Survitec Group Limited (RFD Beaufort Ltd.) Life Jackets

AGENCY: Federal Aviation Administration (FAA), DOT.

ACTION: Notice of proposed rulemaking (NPRM).

SUMMARY: The FAA proposes to adopt a new airworthiness directive (AD) for certain Survitec Group Limited (RFD Beaufort Ltd.) Type 102 Mk 3, 102 Mk 4, and 105 Mk 1 life jackets. This proposed AD was prompted by a report that some life jackets were found packed in the wrong valise (container). This proposed AD would require an inspection for a discrepancy (mismatch of the valise/container description and life jacket type) of life jackets and, if necessary, replacement of the life jacket. This proposed AD would also limit the installation of affected parts under certain conditions. The FAA is proposing this AD to address the unsafe condition on these products.

DATES: The FAA must receive comments on this proposed AD by May 25, 2023.

ADDRESSES: You may send comments, using the procedures found in 14 CFR 11.43 and 11.45, by any of the following methods:

• Federal eRulemaking Portal: Go to regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

AD Docket: You may examine the AD docket at regulations.gov under Docket No. FAA-2023-0666; or in person at Docket Operations between 9 a.m. and 5 p.m., Monday through Friday, except Federal holidays. The AD docket contains this NPRM, the mandatory continuing airworthiness information (MCAI), any comments received, and other information. The street address for Docket Operations is listed above.

Material Incorporated by Reference:

• For service information identified in this NPRM, contact Survitec Group Limited, t/a RFD Beaufort Ltd, Kingsway, Dunmurry, Belfast BT17 9AF, United Kingdom; telephone +44 2890 301531; fax +44 2890 621765; email steve.pickering@survitecgroup.com; website survitecgroup.com.

• You may view this service information at the FAA, Airworthiness Products Section, Operational Safety Branch, 2200 South 216th St., Des Moines, WA. For information on the availability of this material at the FAA, call 206-231-3195.

FOR FURTHER INFORMATION CONTACT: Kevin Kung, Aerospace Engineer, Aviation Safety Section AIR-7B1, Boston ACO Branch, FAA, 1200 District Avenue, Burlington, MA 01803; telephone 781-238-7244; email 9-AVS-AIR-BACO-COS@faa.gov.

SUPPLEMENTARY INFORMATION:

Comments Invited

The FAA invites you to send any written relevant data, views, or arguments about this proposal. Send your comments to an address listed under ADDRESSES. Include “Docket No. FAA-2023-0666; Project Identifier MCAI-2022-00555-Q” at the beginning of your comments. The most helpful comments reference a specific portion of the proposal, explain the reason for any recommended change, and include supporting data. The FAA will consider all comments received by the closing date and may amend the proposal because of those comments.

Except for Confidential Business Information (CBI) as described in the following paragraph, and other information as described in 14 CFR 11.35, the FAA will post all comments received, without change, to regulations.gov, including any personal information you provide. The agency will also post a report summarizing each substantive verbal contact received about this NPRM.

Confidential Business Information

CBI is commercial or financial information that is both customarily and actually treated as private by its owner. Under the Freedom of Information Act (FOIA) (5 U.S.C. 552), CBI is exempt from public disclosure. If your comments responsive to this NPRM contain commercial or financial information that is customarily treated as private, that you actually treat as private, and that is relevant or responsive to this NPRM, it is important that you clearly designate the submitted comments as CBI. Please mark each page of your submission containing CBI as “PROPIN.” The FAA will treat such marked submissions as confidential under the FOIA, and they will not be placed in the public docket of this NPRM. Submissions containing CBI should be sent to Kevin Kung, Aerospace Engineer, Aviation Safety Section AIR-7B1, Boston ACO Branch, FAA, 1200 District Avenue, Burlington, MA 01803; telephone 781-238-7244; email 9-AVS-AIR-BACO-COS@faa.gov. Any commentary that the FAA receives which is not specifically designated as CBI will be placed in the public docket for this rulemaking.

Background

The Civil Aviation Authority (CAA), which is the aviation authority for the United Kingdom (U.K.), has issued U.K. CAA AD G-2022-0009, dated April 21, 2022 (U.K. CAA AD G-2022-0009) (also referred to after this as the MCAI), to correct an unsafe condition on certain Survitec Group Limited (RFD Beaufort Ltd.) Type 102 Mk 3, 102 Mk 4, and 105 Mk 1 life jackets. The MCAI states Type 102 Mk 3 and Type 102 Mk 4 life jackets are designed for use by an adult or child. Type 105 Mk 1 life jackets are designed for use by an infant. Each is packed in a clear polyvinyl chloride (PVC) valise, which is marked ADULT/CHILD, CREW, or INFANT. Due to differences in parameters such as neck aperture and buoyancy, an infant life jacket cannot be used by an adult or child; likewise, an adult/child life jacket cannot be used by an infant. The MCAI stated that Survitec has found that some life jackets were packed in the wrong valise. This could cause incorrect life jackets to be provided for passengers onboard an aircraft.

The FAA is proposing this AD to address incorrectly labeled life jackets, which could, in the event of a water landing or evacuation, result in the unavailability of a life jacket with correct flotation, and possible drowning.

You may examine the MCAI in the AD docket at regulations.gov under Docket No. FAA-2023-0666.

Related Service Information Under 1 CFR Part 51

The FAA reviewed Survitec [RFD] Alert Service Bulletin 25-207-A, Version 1, dated November 24, 2021. This service information specifies procedures for a general visual inspection for a discrepancy (mismatch of valise/container description and life jacket type) of affected life jackets, reporting of all inspection results to Survitec, and if a discrepancy is found, replacement of affected life jackets. (This service information is identified throughout as “Survitec,” while “RFD” is identified on only the first page of the document. Although both “Survitec” and “RFD” are current company names, the service information applies to RFD life jackets.) This service information is reasonably available because the interested parties have access to it through their normal course of business or by the means identified in the ADDRESSES section.

FAA's Determination

This product has been approved by the aviation authority of another country, and is approved for operation in the United States. Pursuant to the FAA's bilateral agreement with this State of Design Authority, it has notified the FAA of the unsafe condition described in the MCAI and service information described above. The FAA is issuing this NPRM after determining that the unsafe condition described previously is likely to exist or develop on other products of the same type design.

Proposed AD Requirements in This NPRM

This proposed AD would require accomplishing the actions specified in the service information already described. This proposed AD would also limit the installation of affected parts under certain conditions.

Costs of Compliance

The FAA estimates that this AD, if adopted as proposed, would affect 4 life jackets installed on, but not limited to, aircraft of U.S. registry. The FAA estimates the following costs to comply with this proposed AD:

Estimated Costs for Required Actions
Labor cost | Parts cost | Cost per product | Cost on U.S. operators
1 work-hour × $85 per hour = $85 | None | $85 | $340

The FAA estimates the following costs to do any necessary on-condition action that would be required based on the results of any required actions. The FAA has no way of determining the number of aircraft that might need this on-condition action:

Estimated Costs of On-Condition Actions
Labor cost | Parts cost | Cost per product
1 work-hour × $85 per hour = $85 | $55 | $140

The FAA has included all known costs in its cost estimate. According to the manufacturer, however, some or all of the costs of this proposed AD may be covered under warranty, thereby reducing the cost impact on affected operators.

Paperwork Reduction Act

A federal agency may not conduct or sponsor, and a person is not required to respond to, nor shall a person be subject to penalty for failure to comply with a collection of information subject to the requirements of the Paperwork Reduction Act unless that collection of information displays a currently valid OMB Control Number. The OMB Control Number for this information collection is 2120-0056. Public reporting for this collection of information is estimated to take approximately 1 hour per response, including the time for reviewing instructions, searching existing data sources, gathering and maintaining the data needed, and completing and reviewing the collection of information. All responses to this collection of information are mandatory. Send comments regarding this burden estimate or any other aspect of this collection of information, including suggestions for reducing this burden, to Information Collection Clearance Officer, Federal Aviation Administration, 10101 Hillwood Parkway, Fort Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: General requirements. Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Would not affect intrastate aviation in Alaska, and

(3) Would not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive:

Survitec Group Limited (RFD Beaufort Ltd): Docket No. FAA-2023-0666; Project Identifier MCAI-2022-00555-Q.

(a) Comments Due Date

The FAA must receive comments on this airworthiness directive (AD) by May 25, 2023.

(b) Affected ADs

None.

(c) Applicability

This AD applies to Survitec Group Limited (RFD Beaufort Ltd.) life jackets identified in paragraphs (c)(1) and (2) of this AD, having a part number and serial number identified in tables 2 through 13 of Survitec [RFD] Alert Service Bulletin 25-207-A, Version 1, dated November 24, 2021, and a date of manufacture between October 1, 2018, and April 30, 2019, inclusive.

Note 1 to the introductory text of paragraph (c): This alert service bulletin is identified throughout as “Survitec,” while “RFD” is identified on only the first page of the document. Although both “Survitec” and “RFD” are current company names, the alert service bulletin applies to RFD life jackets.

(1) Type 102 Mk 3 and 102 Mk 4 life jackets, approved under European Union Aviation Safety Agency (EASA) Technical Standard Order Authorization EASA.21O.799.

(2) Type 105 Mk 1 life jackets, approved under United Kingdom Civil Aviation Authority (U.K. CAA) Aircraft Equipment Approval (AEAR) E15841.

(d) Subject

Air Transport Association (ATA) of America Code 25, Equipment/Furnishings.

(e) Unsafe Condition

This AD was prompted by a report that some life jackets were found packed in the wrong valise (container). The FAA is issuing this AD to address incorrectly labeled life jackets. The unsafe condition, if not addressed, and combined with a water landing or evacuation, could result in inability to use a life jacket with correct flotation and possible drowning.

(f) Compliance

Comply with this AD within the compliance times specified, unless already done.

(g) Inspection

Within 4 months after the effective date of this AD, do a general visual inspection for a discrepancy (mismatch of the valise/container description and life jacket type) of the life jacket, in accordance with paragraphs 2.A. through 2.C. of the Accomplishment Instructions of Survitec [RFD] Alert Service Bulletin 25-207-A, Version 1, dated November 24, 2021.

(h) Follow-on and Corrective Action

Before further flight after accomplishing the requirements of paragraph (g) of this AD, do the applicable actions required by paragraph (h)(1) and (2) of this AD.

(1) If no discrepancies are found during the inspection required by paragraph (g) of this AD, re-identify that part in accordance with paragraph 2.D.(1) of the Accomplishment Instructions of Survitec [RFD] Alert Service Bulletin 25-207-A, Version 1, dated November 24, 2021.

(2) If any discrepancy is found during the inspection required by paragraph (g) of this AD, do the actions required by paragraphs (h)(2)(i) and (ii) of this AD.

(i) Record the unserviceable part in accordance with paragraph 2.E.(1) of the Accomplishment Instructions of Survitec [RFD] Alert Service Bulletin 25-207-A, Version 1, dated November 24, 2021.

(ii) Replace the discrepant part with a new or serviceable part, in accordance with paragraph 2.E.(2) of the Accomplishment Instructions of Survitec [RFD] Alert Service Bulletin 25-207-A, Version 1, dated November 24, 2021.

(i) Parts Installation Limitation

As of the effective date of this AD, no person may install a life jacket identified in paragraph (c) of this AD on any airplane, unless the life jacket and its valise/container have been inspected, and re-identified or replaced as applicable, in accordance with the requirements of paragraphs (g) and (h) of this AD.

(j) Reporting Requirement

At the applicable time specified in paragraph (j)(1) or (2) of this AD, submit a report of the inspection results to Survitec, in accordance with paragraph 2.F. of the Accomplishment Instructions of Survitec [RFD] Alert Service Bulletin 25-207-A, Version 1, dated November 24, 2021.

(1) If the inspection was done on or after the effective date of this AD: Submit the report within 30 days after the inspection.

(2) If the inspection was done before the effective date of this AD: Submit the report within 30 days after the effective date of this AD.

(k) Special Flight Permits

Special flight permits, as described in 14 CFR 21.197 and 21.199, are not allowed.

(l) Additional AD Provisions

The following provisions also apply to this AD:

(1) Alternative Methods of Compliance (AMOCs): The Manager, Boston ACO Branch, FAA, has the authority to approve AMOCs for this AD, if requested using the procedures found in 14 CFR 39.19. In accordance with 14 CFR 39.19, send your request to your principal inspector or responsible Flight Standards Office, as appropriate. If sending information directly to the manager, Boston ACO Branch, mail it to the address identified in paragraph (m)(2) of this AD or email to: 9-AVS-AIR-BACO-COS@faa.gov. If mailing information, also submit information by email. Before using any approved AMOC, notify your appropriate principal inspector, or lacking a principal inspector, the manager of the responsible Flight Standards Office.

(2) Contacting the Manufacturer: For any requirement in this AD to obtain instructions from a manufacturer, the instructions must be accomplished using a method approved by the Manager, Boston ACO Branch, FAA; or the United Kingdom Civil Aviation Authority (U.K. CAA); or Survitec Group Limited's U.K. CAA's Alternative Procedure for Design Organization Approval (ADOA). If approved by the ADOA, the approval must include the ADOA-authorized signature.

(m) Additional Information

(1) Refer to U.K. CAA AD G-2022-0009, dated April 21, 2022, for related information. This U.K. CAA AD may be found in the AD docket at regulations.gov under Docket No. FAA-2023-0666.

(2) For more information about this AD, contact Kevin Kung, Aerospace Engineer, Aviation Safety Section AIR-7B1, Boston ACO Branch, FAA, 1200 District Avenue, Burlington, MA 01803; telephone 781-238-7244; email 9-AVS-AIR-BACO-COS@faa.gov.

(n) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Survitec [RFD] Alert Service Bulletin 25-207-A, Version 1, dated November 24, 2021.

Note 2 to paragraph (n)(2)(i): This alert service bulletin is identified throughout as “Survitec,” while “RFD” is identified on only the first page of the document. Although both “Survitec” and “RFD” are current company names, the alert service bulletin applies to RFD life jackets.

(ii) [Reserved]

(3) For service information identified in this AD, contact Survitec Group Limited, Kingsway, Dunmurry, Belfast BT17 9AF, United Kingdom; phone: +44 2890 301531, fax: +44 2890 621765; email: steve.pickering@survitecgroup.com; website survitecgroup.com.

(4) You may view this service information at the FAA, Airworthiness Products Section, Operational Safety Branch, 2200 South 216th St., Des Moines, WA. For information on the availability of this material at the FAA, call 206-231-3195.

(5) You may view this service information that is incorporated by reference at the National Archives and Records Administration (NARA). For information on the availability of this material at NARA, email fr.inspection@nara.gov, or go to: www.archives.gov/federal-register/cfr/ibr-locations.html.

Issued on April 4, 2023.
Christina Underwood,
Acting Director, Compliance & Airworthiness Division, Aircraft Certification Service.

[FR Doc. 2023-07397 Filed 4-7-23; 8:45 am]

BILLING CODE 4910-13-P